ENVIRONMENTAL PROTECTION AGENCY

[EPA-HQ-OW-2012-0035; FRL-9730-7]

Announcement of Public Meeting on the Consumer Confidence Report (CCR) Rule Retrospective Review and Request for Public Comment on Potential Approaches to Electronic Delivery of the CCR; Correction

AGENCY: Environmental Protection Agency (EPA).

ACTION: Notice of a Public Meeting and Request for Public Comments; correction.

SUMMARY: The U.S. Environmental Protection Agency (EPA) published a document in the Federal Register of September 11, 2012, announcing a public meeting listening session and a request for public comments. The document contained an incorrect URL link for the pubic to use to register for the meeting.

FOR FURTHER INFORMATION CONTACT: Adrienne Harris, Drinking Water Protection Division, at (202) 250-8793.

Correction

In the Federal Register of September 11, 2012, in FR Doc. FRL-9726-8; on page 55833, in the third column, in the sixth paragraph, correct the first sentence of the paragraph to read as follows:

Public Meeting Registration: Individuals planning on participating in the public meeting must register for the meeting at http://www.horsleywitten.com/ccrretroreview.

Dated: September 12, 2012.
Pamela S. Barr,
Acting Office Director, Office of Ground Water and Drinking Water.

[FR Doc. 2012-22965 Filed 9-17-12; 8:45 am]

BILLING CODE 6560-50-P